DEPARTMENT OF HEALTH AND HUMAN SERVICES

Administration for Children and Families

Proposed Information Collection Activity; State Plan for Grants to States for Refugee Resettlement (OMB #0970-0351)

AGENCY: Office of Refugee Resettlement, Administration for Children and Families, HHS.

ACTION: Request for public comment.

SUMMARY: The Administration for Children and Families (ACF), Office of Refugee Resettlement (ORR) is requesting a 3-year extension of the ACF form ORR-0135 State Plan for Grants to States for Refugee Resettlement (OMB #0970-0351, expiration 3/31/2021). ORR is proposing changes to the form.

DATES: Comments due within 60 days of publication. In compliance with the requirements of Section 3506(c)(2)(A) of the Paperwork Reduction Act of 1995, ACF is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION:

Description: A State Plan is a required comprehensive narrative description of the nature and scope of a state's or Replacement Designee's (RD) Refugee Resettlement Program and provides assurances that the program will be administered in conformity with the specific requirements stipulated in 45 CFR 400.4-400.9. The State Plan must include all applicable state or RD procedures, designations, and certifications for each requirement as well as supporting documentation. The plan assures ORR that the state or RD is capable of administering refugee assistance and coordinating employment and other social services for eligible caseloads in conformity with specific requirements.

Changes proposed to the previously approved State Plan for Grants to States for Refugee Resettlement information collection are described below. ORR is proposing:

• Streamlining/formatting changes to multiple sections of the form including technical corrections to regulatory citations and removing a number of requirements related to the now obsolete Wilson-Fish Alternative Program (superseded by the Wilson-Fish TANF Coordination Program, which will have its own separate reporting requirements).

• adding a number of requirements related to Replacement Designees (RDs) to ensure that they are administering the Refugee Resettlement Program with transparency and equity and to the same standard as a state, including quarterly consultation process, Refugee Medical Assistance, Unaccompanied Refugee Minors (URM), and emergency planning to ensure ORR populations receive all necessary information and services to the extent possible.

• requesting additional information related to the Refugee Support Services (RSS) program; ORR's current template does not provide sufficient detailed information for ORR to ascertain how a grantee intends to provide RSS services to its client base.

• improving the URM section to correct inefficiencies, eliminate unnecessary items, and address the needs of victims of trafficking and Special Immigrant Juveniles now eligible for the URM program. In particular, ORR is soliciting states' and RDs' plans for placing children referred by ORR and ensuring alignment with federal capacity priorities.

Respondents: State agencies and RDs under 45 CFR 400.301(c) administering or supervising the administration of programs.

Annual Burden Estimates
Instrument | Total number of respondents | Total number of responses per respondent | Average burden hours per response | Total burden hours | Annual burden hours
State Plan for Grants to States for Refugee Resettlement | 62 | 3 | 18 | 3,348 | 1,116

Estimated Total Annual Burden Hours: 1,116.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 8 U.S.C. 1522 of the Immigration and Nationality Act (the Act) [Title IV, Sec. 412 of the Act] for each state agency requesting federal funding for refugee resettlement under 8 U.S.C. 524 [Title IV, Sec. 414 of the Act].

Mary Jones,
ACF/OPRE Certifying Officer.

[FR Doc. 2020-24777 Filed 11-6-20; 8:45 am]

BILLING CODE 4184-45-P